BROADCASTING BOARD OF GOVERNORS

Request for Comments on the Broadcasting Board of Governors' Implementation of a Comprehensive Plan for Reorganizing the Executive Branch

AGENCY: Broadcasting Board of Governors (BBG).

ACTION: Request for comments.

SUMMARY: Executive Order 13781, “Comprehensive Plan for Reorganizing the Executive Branch,” signed into effect on March 13, 2017, directs the Director of the Office of Management and Budget (OMB) to present the President with a plan that recommends ways to reorganize the executive branch and eliminate unnecessary agencies. As part of this process, the Broadcasting Board of Governors will be submitting a proposal for reorganization to OMB. This request for comments seeks public input on potential reforms at the BBG that would increase the efficiency, effectiveness, and accountability of the agency. These comments will also be considered in the development of the BBG's 2018-2022 Strategic Plan.

The BBG is the federal agency charged with carrying out U.S. Government funded international media, overseeing the operations of five media networks: the Voice of America (VOA), Radio and TV Marti, Radio Free Europe/Radio Liberty (RFE/RL), Radio Free Asia (RFA), and the Middle East Broadcasting Networks (MBN).

DATES: Submit either electronic comments or information by June 30, 2017. We will not accept comments by fax or paper delivery.

ADDRESSES: Submit comments through the BBG Web site at https://www.bbg.gov/submit-your-ideas/.

FOR FURTHER INFORMATION CONTACT: Matt Ciepielowski at 202-203-4845.

SUPPLEMENTARY INFORMATION: Through this request for comments, the BBG is seeking initial feedback from a broad range of stakeholders on questions that will contribute to the BBG's proposal to OMB in accordance with Executive Order 13781 and the BBG's 2018-2022 Strategic Plan. This request for comments is for information-gathering and fact-finding purposes only, and should not be construed as a solicitation or as an obligation on the part of the BBG to agree with submitted comments or to make recommendations regarding specific issues identified in public comments. The BBG requests that respondents generally address the following overarching questions:

• What are the most important or effective projects or programs that the BBG undertakes?

• Do you think that there are any changes that BBG could make to increase the efficiency, effectiveness, and accountability of its media networks or the agency itself? If so, please describe those changes.

• Would you propose reorganizing any parts or aspects of the BBG or its media networks to increase efficiency, effectiveness, and accountability? If so, how?

• In today's changing media landscape, how should the BBG adapt to best serve its mission to inform, engage, and connect people around the world in support of freedom and democracy?

Oanh Tran,
Director of Board Operations, Broadcasting Board of Governors.

[FR Doc. 2017-11832 Filed 6-6-17; 8:45 am]

BILLING CODE 86100-01-P